DEPARTMENT OF THE INTERIOR

Fish and Wildlife Service

Final Comprehensive Conservation Plan and Finding of No Significant Impact for the Steigerwald Lake, Franz Lake, and Pierce National Wildlife Refuges, Located in Clark County and Skamania County, WA

AGENCY: Fish and Wildlife Service, DOI.

ACTION: Notice of decision and availability of the Finding of No Significant Impact and Final Comprehensive Conservation Plan.

SUMMARY: This notice advises the public that the U.S. Fish and Wildlife Service (Service) has prepared a Final Comprehensive Conservation Plan (Final CCP) and related Finding of No Significant Impact (FONSI) for the Steigerwald Lake, Franz Lake, and Pierce National Wildlife Refuges (Gorge Refuges). The Gorge Refuges are located in southwest Washington within the Columbia River Gorge National Scenic Area. The Final CCP was prepared pursuant to the National Wildlife Refuge System Administration Act, as amended, and in accordance with the National Environmental Policy Act of 1969 (NEPA) and its implementing regulations. The Service's Regional Director for the Pacific Region has considered a reasonable range of management alternatives and has selected Alternative B of the CCP for managing the Gorge Refuges for the next 15 years.

DATES: The Final CCP and FONSI are available now. The FONSI was signed on August 26, 2005. Implementation of the Final CCP may begin immediately.

ADDRESSES: Printed copies of the Final CCP are available for viewing at Ridgefield National Wildlife Refuge Complex Headquarters, 301 N. Third Avenue, Ridgefield, WA. These documents and other project information are also available online for viewing and downloading at http://pacific.fws.gov/planning. Copies of the Final CCP may be obtained by writing to the Ridgefield National Wildlife Refuge Complex, P.O. Box 457, Ridgefield, WA 98642.

FOR MORE INFORMATION CONTACT: Project Leader, Ridgefield National Wildlife Refuge Complex, P.O. Box 457, Ridgefield, WA 98642, phone (360) 887-4106.

SUPPLEMENTARY INFORMATION: The Gorge Refuges are located in Skamania and Clark Counties, Washington, in the Columbia River Gorge downstream of Bonneville Dam. The administration center for these Refuges is the Ridgefield National Wildlife Refuge Complex, located 25 miles northwest of Steigerwald Lake Refuge. Planning for the Gorge Refuges occurred simultaneously because: the Refuges are located in close proximity to one another within the Columbia River floodplain; many of the same issues and management opportunities occur at all three Refuges; and they are all part of the lower Columbia River ecosystem.

The Gorge Refuges are part of the National Wildlife Refuge System (NWRS) administered by the Service. It is Service policy to have all lands within the NWRS managed in accordance with an approved CCP. The CCP guides management decisions and identifies refuge goals, long-range objectives, and strategies for achieving refuge purposes. During the planning process for the Gorge Refuges' CCP, many elements were considered, including habitat and wildlife management, habitat protection and acquisition, public and recreational uses, and cultural resources. Public input during this planning process was considered in the development of the CCP. The notice of availability of the Draft CCP for a 30-day public review and comment period was published in the Federal Register on August 20, 2004 (69 FR 51706). The Draft CCP identified and evaluated three alternatives for managing the Refuges. The Service received 18 comment letters on the Draft CCP. The comments received were incorporated, when appropriate, and responded to in the Final CCP.

With the management program described in detail in the Final CCP, the Service will focus on restoring and maintaining biological diversity with particular emphasis on the conservation targets identified in the Final CCP. The Service will continue management of existing wetlands and restore and enhance emergent wetlands on the Gorge Refuges to increase native moist soil plant composition. Approximately 191 acres of managed grasslands will be maintained to support populations of wintering Canada geese. Riparian bottomland forests, riparian scrub-shrub, and native oak communities will be expanded and restored to support conservation targets. Inventory, monitoring, and research will increase on the Gorge Refuges. Working with partners, the Service will seek to remove barriers to fish passage within Gibbons Creek, Indian Mary Creek, and Hardy Creek watersheds. The Service will participate in ongoing efforts to clean up Gibbons Creek and prevent contaminants from entering Steigerwald Lake Refuge. The Service will work with partners to secure additional wetland habitat and develop a waterfowl hunt program that is compatible and consistent with the establishing purpose and goals for Steigerwald Lake Refuge. Opportunities for wildlife viewing and photography and environmental education and interpretation will increase, and the Service will officially open the portion of the Columbia Dike Trail on Steigerwald Lake Refuge to bicycling, horseback riding, jogging, and leashed pets.

The Service is furnishing this notice to advise other agencies and the public of the availability of the Final CCP, to provide information on the desired conditions for the Gorge Refuges, and to detail how the Service will implement management strategies. Based on the review and evaluation of the information contained in the environmental assessment, the Regional Director has determined that implementation of the Final CCP does not constitute a major Federal action that would significantly affect the quality of the human environment within the meaning of Section 102(2)(c) of the NEPA. Therefore, an Environmental Impact Statement will not be prepared. Future site-specific proposals discussed in the Final CCP will be addressed in separate planning efforts with full public involvement.

Dated: January 20, 2006.
Cynthia U. Barry,
Acting Regional Director, Region 1, Portland, Oregon.

[FR Doc. E6-1024 Filed 1-26-06; 8:45 am]

BILLING CODE 4310-55-P